DEPARTMENT OF TRANSPORTATION

Federal Aviation Administration

14 CFR Part 121

[Docket No. FAA-2012-0670]

Proposed Legal Interpretation

AGENCY: Federal Aviation Administration (FAA), DOT.

ACTION: Proposed interpretation; correction.

SUMMARY: On June 1, 2012 at 77 FR 32441, the FAA published a proposed legal interpretation in which the agency considered clarifying prior legal interpretations regarding pilot in command discretion under 14 CFR 121.547(a)(3) and (a)(4). The agency inadvertently assigned an incorrect docket number to the proposed legal interpretation. This document corrects the docket number. Any comments submitted to docket number FAA-2011-0045 regarding the proposed legal interpretation published at 77 FR 32441 will be moved to the correct docket, FAA-2012-0670.

FOR FURTHER INFORMATION CONTACT: Sara Mikolop, Attorney, Regulations Division, Office of the Chief Counsel, Federal Aviation Administration, 800 Independence Avenue SW., Washington, DC 20591; telephone: 202-267-3073.

Correction

In the Federal Register of June 1, 2012, in FR Doc. 2012-13290, on page 32441, in the third column, in the heading, correct the docket number to read:

[Docket No. FAA-2012-0670]

Also, on page 32441, in the third column, correct the ADDRESSES caption to read:

ADDRESSES: You may send comments identified by Docket Number FAA-2012-0670 using any of the following methods:

Federal eRulemaking Portal: Go to http://www.regulations.gov and follow the online instructions for sending your comments electronically.

Mail: Send comments to Docket Operations, M-30; U.S. Department of Transportation, 1200 New Jersey Avenue SE., Room W12-140, West Building Ground Floor, Washington, DC 20590-0001.

Hand Delivery or Courier: Bring comments to Docket Operations in Room W12-140 of the West Building Ground Floor at 1200 New Jersey Avenue SE., Washington, DC, between 9 a.m. and 5 p.m., Monday through Friday, except Federal holidays.

Fax: Fax comments to Docket Operations at 202-493-2251.

Issued in Washington, DC, on June 28, 2012.
Rebecca B. MacPherson,
Assistant Chief Counsel for Regulations, AGC-200.

[FR Doc. 2012-16342 Filed 7-3-12; 8:45 am]

BILLING CODE 4910-13-P